DEPARTMENT OF THE INTERIOR

[(MT-922-06)-1310-FI-P; NDM 94458]

Notice of Proposed Reinstatement of Terminated Oil and Gas Lease NDM 94458

AGENCY: Bureau of Land Management, Interior.

ACTION: Notice.

SUMMARY: Per 30 U.S.C. 188(d), Baldwin Exploration Corp. timely filed a petition for reinstatement of oil and gas lease NDM 94458, Mountrail County, North Dakota, together with a request for a rental and royalty reduction allowed under 43 CFR 3108.2-3(f). The lessee paid the required rental at the rate provided in the original lease terms.

No leases were issued that affect these lands. The lessee paid the $500 administration fee for the reinstatement of the lease and $163 cost for publishing this Notice.

The lessee met the requirements for reinstatement of the lease per Sec. 31 (d) and (e) of the Mineral Leasing Act of 1920 (30 U.S.C. 188). We are proposing to reinstate the lease, effective the date of termination subject to the original terms and conditions of the lease.

FOR FURTHER INFORMATION CONTACT: Karen L. Johnson, Chief, Fluids Adjudication Section, BLM Montana State Office, 5001 Southgate Drive, Billings, Montana 59101-4669, Phone (406) 896-5098/Fax (406) 896-5292.

Dated: September 13, 2006.
Karen L. Johnson,
Chief, Fluids Adjudication Section.

[FR Doc. 06-7833 Filed 9-20-06; 8:45 am]

BILLING CODE 4310-$$-P